DEPARTMENT OF VETERANS AFFAIRS

Rehabilitation Research and Development Service (RR&D) Scientific Merit Review Board; Federal Register Notice of Meeting

The Department of Veterans Affairs (VA) gives notice under the Federal Advisory Committee Act, 5 U.S.C. Ch. 10, that a meeting of the RR&D Scientific Merit Review Board (Board) will be held March 4, 2026, from 1-1:30 p.m. EST, via WebEx. The meeting will be open to the public from 1-1:10 p.m. EST. The remainder of the meeting, from 1:10-1:30 p.m. EST, will be closed to the public and used for scientific review and discussion, examination of, and reference to the research applications. Discussions will involve staff and consultant critiques of research proposals. Discussions will also cover the scientific merit of each proposal and the qualifications of the personnel conducting the studies, the disclosure of which would constitute a clearly unwarranted invasion of personal privacy. Additionally, premature disclosure of research information could significantly obstruct implementation of proposed agency action regarding the research proposals. Therefore, portions of the Board meeting will be closed to the public in accordance with 5 U.S.C. 552b(c)(4), (6) and (9)(B).

The objective of the Board is to provide for the fair and equitable selection of the most meritorious research projects for support by VA research funds and to offer advice for research program officials on program priorities and policies. The ultimate objective of the Board is to ensure that the VA rehabilitation research program promotes functional independence and improves the quality of life for impaired and disabled Veterans.

Board members will advise the Director of Rehabilitation Research, Development and Translation, Acting Deputy Chief Research and Development Officer for Investigators, Scientific Review, and Management, and Acting Chief Research and Development Officer on the scientific and technical merit, mission relevance, and protection of human and animal subjects of the proposals submitted to RR&D. The Board does not consider grants, contracts, or other forms of extramural research.

Members of the public may attend the open portion of the meeting from 1-1:10 p.m. EST via WebEx (in listen-only mode, as the time limited agenda does not allow for public comment or presentations). To attend the open portion of the meeting, the public may dial the WebEx phone number (1-833-558-0712) and enter the meeting access code (2821 163 5522).

Written comments from members of the public should be sent to Kristy Benton-Grover, Designated Federal Officer, RR&D, U.S. Department of Veterans Affairs, 810 Vermont Avenue NW, Washington, DC 20420, or to Kristy.Benton-Grover@va.gov, at least five (5) days before the meeting. The written public comments will be shared with the Board members. The public may not attend the closed portion of the meeting.

Dated: January 28, 2026.
LaTonya L. Small,
Federal Advisory Committee Management Officer.

[FR Doc. 2026-01931 Filed 1-30-26; 8:45 am]

BILLING CODE 8320-01-P